DEPARTMENT OF TRANSPORTATION

Federal Aviation Administration

Notice of Intent To Rule on Request To Release Airport Property at the Arapahoe County Public Airport, Englewood, CO

AGENCY: Federal Aviation Administration (FAA), DOT.

ACTION: Notice of request to release airport property.

SUMMARY: The FAA proposes to rule and invite public comment on the release of land at the Arapahoe County Public Airport, Englewood, CO.

DATES: Comments must be received on or before April 9, 2018.

ADDRESSES: Comments on this application may be mailed or delivered to the FAA at the following address: Mr. John P. Bauer, Manager, Federal Aviation Administration, Northwest Mountain Region, Airports Division, Denver Airports District Office, 26805 E 68th Avenue, Suite 224, Denver, CO 80249-6361.

In addition, one copy of any comments submitted to the FAA must be mailed or delivered to Mr. Robert Olislagers, Arapahoe County Public Airport, Englewood, CO, at the following address:

Mr. Robert Olislagers, Chief Executive Officer, Arapahoe County Public Airport, 7800 South Peoria Street, Unit G1, Englewood, CO 80112

FOR FURTHER INFORMATION CONTACT: Mr. Marc Miller, Colorado Engineer/Compliance Specialist, Federal Aviation Administration, Northwest Mountain Region, Denver Airports District Office, 26805 E 68th Avenue, Suite 224, Denver, CO 80249-6361.

The request to release property may be reviewed, by appointment, in person at this same location.

SUPPLEMENTARY INFORMATION: The FAA invites public comment on the request to release property at the Arapahoe County Public Airport under the provisions of the AIR 21 (49 U.S.C. 47107(h)(2)).

On February 27, 2018, the FAA determined that the request to release property at the Arapahoe County Public Airport submitted by the Arapahoe County Public Airport meets the procedural requirements of the Federal Aviation Administration.

The following is a brief overview of the request:

The Arapahoe County Public Airport is proposing the release from the terms, conditions, reservations, and restrictions on approximately 27.766 acres of federally obligated land at the Arapahoe County Public Airport. This land was originally purchased in 2007 as part of a larger deal to obtain a restrictive covenant over several tracts of developable land near the airport that were slated for residential use. The 27.766 acres being proposed for release was never intended for aeronautical development and has been advertised for lease since the original purchase without any success. However, several buyers have approached the airport with interest in purchasing the land for compatible uses. The property will be sold at fair market value and the sponsor will reinvest the revenue into the airport. The property release conveyance will include appropriate continuing right of flight and continuing restriction clauses that will prohibit any activity on the land that would interfere with or be a hazard to the flight of aircraft over the land or to and from the airport, or that interferes with air navigation and communications facilities serving the airport.

Any person may inspect, by appointment, the request in person at the FAA office listed above under FOR FURTHER INFORMATION CONTACT.

In addition, any person may, upon appointment and request, inspect the application, notice and other documents germane to the application in person at the Arapahoe County Public Airport.

Issued in Denver, CO, on February 27, 2018.
John P. Bauer,
Manager, Denver Airports District Office.

[FR Doc. 2018-04689 Filed 3-7-18; 8:45 am]

BILLING CODE 4910-13-P